DEPARTMENT OF DEFENSE

Department of the Navy

[Docket ID USN-2012-0007]

Privacy Act of 1974; System of Records

AGENCY: Department of the Navy, DoD.

ACTION: Notice to Alter a System of Records.

SUMMARY: The Department of the Navy proposes to alter a system of records in its inventory of record systems subject to the Privacy Act of 1974 (5 U.S.C. 552a), as amended.

DATES: This proposed action will be effective on June 11, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on May 3, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 8, 2012.
Aaron Siegel,
Alternate OSD Federal Register Liaison Officer, Department of Defense.

NM-05724-1

System name:

Fleet Hometown News System (FHNS) Records (December 12, 2008, 73 FR 75692).

Changes:

* * * * *

Categories of individuals covered by the system:

Delete entry and replace with “Active-duty and reserve Navy, Marine Corps, Coast Guard, Army, and Air Force personnel and government civilian personnel.”

Categories of records in the system:

Delete entry and replace with “Information submitted includes: full name, signature, rank, gender, marital status, date entered service, branch of service, duty status, Command mailing address, date reported, duty to which assigned/job title, spouse's first name, father's name and address, mother's name and address, father-in-law's name and address, mother-in-law's name and address, high school and college/university complete names, graduation dates, degrees received, city, state, and zip codes, and promotions, awards, photographs and significant career events.”

Authority for maintenance of the system:

Delete entry and replace with “5 U.S.C. 301, Departmental Regulations; 10 U.S.C. 5013, Secretary of the Navy; 10 U.S.C. 5041, Headquarters, Marine Corps; function; composition; 14 U.S.C. 93, Commandant, General Powers; 10 U.S.C. 8013, Secretary of the Air Force; 10 U.S.C. 8034, Vice Chief of Staff; 10 U.S.C. 3013 Secretary of the Army; and SECNAVINST 5724.3A, Fleet Hometown News Program Policy and Procedures.”

Purpose(s):

Delete entry and replace with “Information is collected and maintained to generate public awareness of the accomplishments of Navy, Marine Corps, Coast Guard, Army, Air Force, and government civilian personnel by distributing news releases and photographs to the hometown news media of individual service members or employees. Hometown news media include, but are not limited to, newspapers, radio and television stations, and college/university alumni publications throughout the United States and its territories and their respective Web sites. Release of this information is done with the individual's full cooperation and written consent.”

Routine uses of records maintained in the system, including categories of uses and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To the news media in individual service member's or employee's hometown for publication by local news media to recognize the achievements of service members. Release of this information is done with the individual's full cooperation and written consent.

The DoD `Blanket Routine Uses' that appear at the beginning of the Navy's compilation of systems of records notices apply to this system.”

* * * * *

Retrievability:

Delete entry and replace with “By individuals name.”

* * * * *

System manager(s) and address:

Delete entry and replace with “Fleet Hometown News System Manager, 9320 Third Avenue, Suite 100, Norfolk, VA 23511-2125.”

Notification procedure:

Delete entry and replace with “Individuals seeking to determine whether this system of records contains information about themselves should address written inquiries to the Fleet Hometown News System Manager, 9420 Third Avenue, Suite 100, Norfolk, VA 23511-2125. Requests should contain the individual's full name and must be signed by the individual.

The system manager may require an original signature or a notarized signature as a means of proving the identity of the individual requesting access to the records.”

Record access procedures:

Delete entry and replace with “Individuals seeking access to records about themselves contained in this system of records should address written inquiries to the Fleet Hometown News System Manager, 9420 Third Avenue, Suite 100, Norfolk, VA 23511-2125. Requests should contain the individual's full name and must be signed by the individual.

The system manager may require an original signature or a notarized signature as a means of proving the identity of the individual requesting access to the records.”

* * * * *

[FR Doc. 2012-11451 Filed 5-10-12; 8:45 am]

BILLING CODE 5001-06-P